DEPARTMENT OF JUSTICE

8 CFR Ch. V

21 CFR Ch. I

27 CFR Ch. II

28 CFR Ch. I, V

31 CFR Ch. IX

Regulatory Agenda

AGENCY: Department of Justice.

ACTION: Semiannual Regulatory Agenda.

SUMMARY: The Department of Justice is publishing its spring 2025 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW, Washington, DC 20530, (202) 514-8059.

SUPPLEMENTARY INFORMATION: Beginning with the fall 2007 edition, the internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C 602), the Department of Justice's printed agenda entries include only:

Rules that are in the Agency's regulatory flexibility agenda, in accordance with the Regulatory Flexibility Act, because they are likely to have a significant economic impact on a substantial number of small entities; and any rules that the Agency has identified for periodic review under section 610 of the Regulatory Flexibility Act.

Printing of these entries is limited to fields that contain information required by the Regulatory Flexibility Act's Agenda requirements. Additional information on these entries is available in the Unified Agenda published on the internet.

Nicholas Schilling, Jr.,
Supervisory Official, Office of Legal Policy.

Civil Rights Division—Long-Term Actions
Sequence No. | Title | Regulation Identifier No.
110 | Nondiscrimination on the Basis of Disability in State and Local Government Services (Section 610 Review) | 1190-AA80
111 | Nondiscrimination on the Basis of Disability in Public Accommodations and Commercial Facilities (Section 610 Review) | 1190-AA81
112 | Nondiscrimination on the Basis of Disability; Accessibility of Web Information and Services of State and Local Government Entities | 1190-AA82

National Security Division—Completed Actions
Sequence No. | Title | Regulation Identifier No.
113 | Provisions Regarding Access to Americans' Bulk Sensitive Personal Data and Government-Related Data by Countries of Concern | 1124-AA01

Department of Justice (DOJ): Civil Rights Division (CRT) | Long-Term Actions

110. • NONDISCRIMINATION ON THE BASIS OF DISABILITY IN STATE AND LOCAL GOVERNMENT SERVICES (SECTION 610 REVIEW) [1190-AA80]

Legal Authority: 5 U.S.C. 301; 28 U.S.C. 509 to 510; 42 U.S.C. 12134; PL 101-336

Abstract: On September 15, 2010, the Department published a final rule revising its regulations implementing title II of the Americans With Disabilities Act (ADA) (75 FR 56164) to adopt enforceable accessibility standards under the ADA that were consistent with the minimum guidelines and requirements issued by the Architectural and Transportation Barriers Compliance Board (Access Board) and to update or amend certain provisions of the title II regulation so that they comported with the Department's legal and practical experiences in enforcing the ADA since 1991. Title II of the ADA relates to nondiscrimination on the basis of disability in State and local government services.

Section 610 of the Regulatory Flexibility Act (5 U.S.C. 610) requires agencies once every 10 years to review rules that have a significant economic impact upon a substantial number of small entities. Accordingly, pursuant to the requirements of section 610, the Department is planning to publish a Notice of Proposed Rulemaking (NPRM) to review its ADA title II regulations at 28 CFR 35.

Timetable:

Action | Date | FR Cite
NPRM | To Be Determined

Regulatory Flexibility Analysis Required: Yes

Agency Contact: Roberta Stinar Kirkendall, Special Legal Counsel, Disability Rights Section, Department of Justice, Civil Rights Division, 950 Pennsylvania Ave. NW, Washington, DC 20530

Phone: 202 353-5414

RIN: 1190-AA80

111. • NONDISCRIMINATION ON THE BASIS OF DISABILITY IN PUBLIC ACCOMMODATIONS AND COMMERCIAL FACILITIES (SECTION 610 REVIEW) [1190-AA81]

Legal Authority: 5 U.S.C. 301; 28 U.S.C. 509 to 510; 42 U.S.C. 12186(b); PL 101-336

Abstract: On September 15, 2010, the Department published a final rule revising its regulations implementing title III of the Americans With Disabilities Act (ADA) (75 FR 56236) that established requirements for the design and construction of accessible facilities that were consistent with the ADA Accessibility Guidelines (ADAAG) published by the U.S. Architectural and Transportation Barriers Compliance Board (Access Board). Title III of the ADA relates to nondiscrimination on the basis of disability in public accommodations and commercial facilities.

Section 610 of the Regulatory Flexibility Act (5 U.S.C. 610) requires agencies once every 10 years to review rules that have a significant economic impact upon a substantial number of small entities. Accordingly, pursuant to the requirements of section 610, the Department is planning to publish a Notice of Proposed Rulemaking (NPRM) to review its ADA title III regulations at 28 CFR 36.

Timetable:

Action | Date | FR Cite
NPRM | To Be Determined

Regulatory Flexibility Analysis Required: Yes

Agency Contact: Roberta Stinar Kirkendall, Special Legal Counsel, Disability Rights Section, Department of Justice, Civil Rights Division, 950 Pennsylvania Ave. NW, Washington, DC 20530

Phone: 202 353-5414

RIN: 1190-AA81

112. • NONDISCRIMINATION ON THE BASIS OF DISABILITY; ACCESSIBILITY OF WEB INFORMATION AND SERVICES OF STATE AND LOCAL GOVERNMENT ENTITIES [1190-AA82]

Legal Authority: 5 U.S.C. 301; 28 U.S.C. 509 to 510; 42 U.S.C. 12134; PL 101-36

Abstract: The Americans with Disabilities Act (ADA) states that “no qualified individual with a disability shall, by reason of such disability, be excluded from participation in or be denied the benefits of services, programs, or activities of a public entity, or be subjected to discrimination by any such entity.” 42 U.S.C. 12132. However, many public entities' (i.e., State and local governments') websites and mobile apps fail to incorporate or activate features that enable users with disabilities to access the public entity's services, programs, and activities. Accordingly, on April 24, 2024, the Department published a final rule revising its regulations implementing title II of the (ADA) to provide technical standards to assist public entities in complying with their existing obligations to make their websites and mobile apps accessible to individuals with disabilities. (89 FR 31320)

The Department now plans to publish a Notice of Proposed Rulemaking (NPRM) to reconsider whether some of the regulatory provisions imposed by the April 24, 2024 rule could be made less costly.

Timetable:

Action | Date | FR Cite
NPRM | To Be Determined

Regulatory Flexibility Analysis Required: Yes

Agency Contact: Roberta Stinar Kirkendall, Special Legal Counsel, Disability Rights Section, Department of Justice, Civil Rights Division, 950 Pennsylvania Ave. NW, Washington, DC 20530

Phone: 202 353-5414

RIN: 1190-AA82

Department of Justice (DOJ): National Security Division (NSD) | Completed Actions

113. PROVISIONS REGARDING ACCESS TO AMERICANS' BULK SENSITIVE PERSONAL DATA AND GOVERNMENT-RELATED DATA BY COUNTRIES OF CONCERN [1124-AA01]

Legal Authority: 5 U.S.C. 301; 28 U.S.C. 509, 510; E.O. 14117—Preventing Access to Americans' Bulk Sensitive Personal Data and United States Government-Related Data by Countries of Concern

Abstract: On February 28, 2024, the President issued the “Executive Order Preventing Access to Americans' Bulk Sensitive Personal Data and U.S. Government-Related Data by Countries of Concern” (E.O. 14117). The Order directs the Attorney General to issue regulations that prohibit or otherwise restrict United States persons from engaging in any acquisition, holding, use, transfer, transportation, or exportation of, or dealing in, any property in which a foreign person has any interest, where the transaction: (a) involves U.S. Government-related data or bulk U.S. sensitive personal data, as defined by final rules implementing the Order; (b) falls within a category of transactions that the Attorney General has determined pose an unacceptable national security risk of access by countries of concern or covered persons to Americans' bulk sensitive personal data or U.S. Government-related data; or (c) meets other criteria specified by the Order.

On March 5, 2024, the Department published an Advanced Notice of Proposed Rulemaking (ANPRM) seeking public comment on various topics related to the implementation of the Order, including designating countries of concern and covered persons, identifying prohibited and restricted data transactions, defining U.S. governmentrelated data and bulk U.S. sensitive personal data, and other provisions relating to the Order's interpretation, enforcement, and compliance therewith.

The Department plans to publish a Notice of Proposed Rulemaking (NPRM) later this year.

Completed:

Reason | Date | FR Cite
NPRM | 10/29/24 | 89 FR 86116
Final Rule | 01/08/25 | 90 FR 1636
Final Action Effective | 04/08/25

Regulatory Flexibility Analysis Required: Yes

Agency Contact: Lee Licata

Phone: 202 514-8648

Email: nsd.firs.datasecurity@usdoj.gov

RIN: 1124-AA01

[FR Doc. Filed 08-18-25; 0:00 a.m.]

BILLING CODE 4410-BP-P

[FR Doc. 2025-18331 Filed 9-19-25; 8:45 am]

BILLING CODE 4410-BP-P